FEDERAL TRADE COMMISSION

16 CFR Part 307

Extension of Time for Comments Concerning Regulations Implementing the Comprehensive Smokeless Tobacco Health Education Act of 1986

AGENCY: Federal Trade Commission.

ACTION: Notice of reopening and extension of comment period.

SUMMARY: The Federal Trade Commission (the “Commission”) has extended the date by which comments must be submitted concerning the review of its regulations (“smokeless tobacco regulations” or “the regulations”) implementing the Comprehensive Smokeless Tobacco Health Education Act of 1986 (“Smokeless Tobacco Act”). This document informs prospective commenters of the change and sets a new date of July 21, 2000 for the end of the comment period.

DATES: Comments must be submitted on or before July 21, 2000.

ADDRESSES: Written comments should be identified as “16 CFR Part 307” and sent to the Secretary, Federal Trade Commission, Room H-159, 600 Pennsylvania Avenue, N.W., Washington D.C. 20580. The Commission requests that the original comment be filed with five copies, if feasible. The Commission also requests, if possible, that the comments be submitted in electronic form on a computer disc. (Programs based on DOS or Windows are preferred. Files from other operating systems should be submitted in ASCII text format.) The disc label should identify the commenter's name and the name and version of the word processing program used to create the document.

Alternatively, the Commission will accept comments submitted to the following E-Mail address: “SMOKELESS@ftc.gov”.

All comments will be placed on the public record and will be available for public inspection in accordance with the Freedom of Information Act, 5 U.S.C. 552, and the Commission's Rules of Practice, 16 CFR 4.11, during normal business days from 8:30 a.m. to 5:00 p.m., at the Public Reference Room, Room H-130, Federal Trade Commission, 600 Pennsylvania Avenue, N.W., Washington D.C. 20580. In addition, comments will be placed on the Internet at the FTC web site: http://www.ftc.gov.

FOR FURTHER INFORMATION CONTACT: Rosemary Rosso (202) 326-3076, Division of Advertising Practices, Bureau of Consumer Protection, Federal Trade Commission, Washington, D.C. 20580, E-Mail (for questions or information only): rrosso@ftc.gov.

SUPPLEMENTARY INFORMATION: On March 7, 2000, the Commission published in the Federal Register a Request for Comment on its regulations (“smokeless tobacco regulations” or “the regulations”) implementing the Comprehensive Smokeless Tobacco Health Education Act of 1986 (“Smokeless Tobacco Act”), 16 CFR part 307, as part of its regulatory review program. 65 FR 11944. The regulations set forth the manner in which smokeless tobacco manufacturers, importers, and packagers must display and rotate the three health warnings mandated by the Smokeless Tobacco Act. The Federal Register Notice (“notice”) posed twelve questions in all; some were general regulatory review questions, while others asked about material issues that are specific to the smokeless tobacco regulations. The notice requested commenters to provide answers where possible, and specifically asked for consumer research, studies or other data to support comments submitted to the Commission. Pursuant to the Federal Register Notice, the comment period ended on April 24, 2000.

Staff has received a request for an extension of the comment period from the Massachusetts Department of Public Health. The Department indicates that it is currently investigating issues that relate to smokeless tobacco warnings and requests additional time to compile relevant information for the Commission's consideration.

The Commission is mindful of the need to deal with this matter as expeditiously as possible. However, the Commission is also aware that some of the issues raised by the Federal Register Notice may be complex and it welcomes as much substantive input as possible to facilitate its decisionmaking process. Accordingly, in order to provide sufficient time for these and other interested parties to prepare useful comments, the Commission has decided to extend the deadline for comments until July 21, 2000.

List of Subjects in 16 CFR Part 307

Health warnings, Smokeless tobacco, Trade practices.

Authority: 15 U.S.C. 1401-1410.

By direction of the Commission.
Donald S. Clark,
Secretary.

[FR Doc. 00-11455 Filed 5-5-00; 8:45 am]

BILLING CODE 6750-01-M